DEPARTMENT OF HOUSING AND URBAN DEVELOPMENT

[Docket No. FR-5103-N-02]

Notice of Certain Operating Cost Adjustment Factors for 2008

AGENCY: Office of the Assistant Secretary for Housing—Federal Housing Commissioner, HUD.

ACTION: Publication of the 2008 Operating Cost Adjustment Factors (OCAFs) for in some instances adjusting and in others establishing Section 8 rents under the Multifamily Assisted Housing Reform and Affordability Act of 1997 (MAHRA), as amended, and under the Low-Income Housing Preservation and Resident Homeownership Act of 1990 (LIHPRHA) Projects assisted with Section 8 Housing Assistance Payments.

SUMMARY: This notice establishes annual factors used in calculating renewal rents and rent adjustments under certain provisions of MAHRA and LIHPRHA.

DATES: Effective Date: February 11, 2008.

FOR FURTHER INFORMATION CONTACT: Judith May, Director, Office of Evaluation, Department of Housing and Urban Development, 451 Seventh Street, SW., Washington, DC 20410; telephone (202) 402-3239 (this is not a toll-free number). Hearing or speech-impaired individuals may access this number via TTY by calling the toll-free Federal Information Relay Service at (800) 877-8339.

SUPPLEMENTARY INFORMATION:

I. Operating Cost Adjustment Factors (OCAFs)

Section 514(e)(2) of MAHRA requires HUD to establish guidelines for rent adjustments based on an operating cost adjustment factor (OCAF). The legislation requiring HUD to establish OCAFs for LIHPRHA projects and projects with contract renewals or adjustments under section 524 of MAHRA is similar in wording and intent. HUD has therefore developed a single factor to be applied uniformly to all projects utilizing OCAFs as the method by which renewal rents are established or adjusted.

Additionally, MAHRA gives HUD broad discretion in setting OCAFs—referring, for example, in sections 524(a)(4)(C)(i), 524(b)(1)(A), 524(b)(3)(A) and 524(c)(1) simply to “an operating cost adjustment factor established by the Secretary.” The sole limitation to this grant of authority is a specific requirement in each of the foregoing provisions that application of an OCAF “shall not result in a negative adjustment.” OCAFs are to be applied uniformly to all projects utilizing OCAFs as the method by which rents are established or adjusted. OCAFs are applied to project contract rent less debt service.

In prior years, HUD developed OCAFs by combining price change indices for nine categories of project operating costs derived mostly from national data—only three of the nine price change indices were available at the state level. Furthermore, several of the price indices used to develop past OCAFs were indirect measures of project operating costs. For FY 2008, HUD has decided to develop OCAFs from the most current actual project operating cost data at the state level, and this eliminates the need to break the costs into categories and to rely on national data which serve as surrogate measures for project operating costs.

Extensive research into the OCAF methodology determined that HUD's administrative data provides the best source of data detailing the operating costs experienced by properties submitting financial statement reports to HUD. Therefore, in order to more closely align OCAFs with actual changes in operating expenses as reported to HUD by those properties filing Annual Financial Statement (AFS) data, HUD is using the AFS information as the basis for FY 2008 OCAFs.

Specifically, HUD calculated the average, per unit, change in operating costs (excluding debt service and bad debt expense), by state, for all projects submitting consecutive valid financial statement reports with Fiscal Year end dates between July 31, 2005 and July 31, 2007. The projects comprise all multifamily properties excluding nursing homes and hospitals. Furthermore, data for projects with unusually high or low expenses due to unusual circumstances were deleted from the analysis. These changes in actual operating costs experienced by properties within HUD's portfolio have become the FY 2008 OCAFs.

OCAFs continue to be published at the state level. States are the lowest level of geographical aggregation at which there are enough projects to permit statistically reliable analysis. Additionally, no data were available for the Western Pacific Islands. Data for Hawaii was therefore used to generate OCAFs for these areas.

II. MAHRA and LIHPRHA OCAF Procedures

MAHRA, as amended, created the Mark-to-Market Program to reduce the cost of Federal housing assistance, enhance HUD's administration of such assistance, and to ensure the continued affordability of units in certain multifamily housing projects. Section 524 of MAHRA authorizes renewal of Section 8 project-based assistance contracts for projects without Restructuring Plans under the Mark-to-Market Program, including projects that are not eligible for a Plan and those for which the owner does not request a Plan. Renewals must be at rents not exceeding comparable market rents except for certain projects. As an example, for Section 8 Moderate Rehabilitation projects, other than single room occupancy projects (SROs) under the McKinney-Vento Homeless Assistance Act (McKinney Act, 42 U.S.C. 11301 et seq.), that are eligible for renewal under section 524(b)(3) of MAHRA, the renewal rents are required to be set at the lesser of: (1) The existing rents under the expiring contract, as adjusted by the OCAF; (2) fair market rents (less any amounts allowed for tenant-purchased utilities; or (3) comparable market rents for the market area.

LIHPRHA (see, in particular, section 222(a)(2)(G)(i), 12 U.S.C. 4112 (a)(2)(G) and the regulations at 24 CFR 248.145(a)(9)) require that future rent adjustments for LIHPRHA projects be made by applying an annual factor to be determined by the Secretary to the portion of project rent attributable to operating expenses for the project and, where the owner is a priority purchaser, to the portion of project rent attributable to project oversight costs.

III. Findings and Certifications

Environmental Impact

This issuance sets forth rate determinations and related external administrative requirements and procedures that do not constitute a development decision affecting the physical condition of specific project areas or building sites. Accordingly, under 24 CFR 50.19(c)(6), this notice is categorically excluded from environmental review under the National Environmental Policy Act of 1969 (42 U.S.C. 4321).

Executive Order 13132, Federalism

This final rule does not have federalism implications and does not impose substantial direct compliance costs on state and local governments or preempt state law within the meaning of Executive Order 13132 (entitled “Federalism”).

Catalog of Federal Domestic Assistance Number

The Catalog of Federal Domestic Assistance Number for this program is 14.187.

Dated: October 17, 2007.
Brian D. Montgomery,
Assistant Secretary for Housing—Federal Housing Commissioner.

Appendix—Operating Cost Adjustment Factors for 2008

| Percent
ALABAMA | 5.0
ALASKA | 3.9
ARIZONA | 6.8
ARKANSAS | 6.8
CALIFORNIA | 5.3
COLORADO | 2.7
CONNECTICUT | 3.5
DELAWARE | 8.2
DIST. OF COLUMBIA | 6.8
FLORIDA | 7.0
GEORGIA | 3.5
HAWAII | 9.2
IDAHO | 6.1
ILLINOIS | 3.4
INDIANA | 2.6
IOWA | 3.7
KANSAS | 3.8
KENTUCKY | 3.6
LOUISIANA | 5.7
MAINE | 8.0
MARYLAND | 4.3
MASSACHUSETTS | 4.7
MICHIGAN | 2.8
MINNESOTA | 0.5
MISSISSIPPI | 5.7
MISSOURI | 2.9
MONTANA | 3.4
NEBRASKA | 1.8
NEVADA | 7.3
NEW HAMPSHIRE | 3.0
NEW JERSEY | 4.6
NEW MEXICO | 1.5
NEW YORK | 2.7
N. CAROLINA | 4.8
N. DAKOTA | 1.6
OHIO | 2.6
OKLAHOMA | 4.2
OREGON | 3.3
PENNSYLVANIA | 3.6
RHODE ISLAND | 3.2
S. CAROLINA | 5.5
S. DAKOTA | 2.2
TENNESSEE | 3.7
TEXAS | 5.1
UTAH | 2.2
VERMONT | 0.9
VIRGINIA | 5.3
WASHINGTON | 6.0
W. VIRGINIA | 3.1
WISCONSIN | 3.2
WYOMING | 5.2
PACIFIC ISLANDS | 9.2
PUERTO RICO | 7.4
VIRGIN ISLANDS | 6.6
U.S. AVERAGE | 4.1

[FR Doc. E7-21020 Filed 10-24-07; 8:45 am]

BILLING CODE 4210-67-P